DEPARTMENT OF JUSTICE

Office of Justice Programs

[OMB Number 1121-NEW]

Agency Information Collection Activities; Proposed eCollection eComments Requested; Reinstatement With Change of a Previously Approved Collection for Which Approval Has Expired Methodological Research to Support the National Crime Victimization Survey: Subnational Companion Study—American Crime Survey Field Test

AGENCY: Bureau of Justice Statistics, Office of Justice Programs, U.S. Department of Justice.

ACTION: 30-day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at Volume 79, Number 238, pages 73627—73628, on December 11, 2014, allowing for a 60 day comment period.

DATES: Comments are encouraged and will be accepted for additional days until March 19, 2015.

FOR FURTHER INFORMATION CONTACT: If you have additional comments especially on the estimated public burden or associated response time, suggestions, or need a copy of the proposed information collection instrument with instructions or additional information, please contact Michael Planty, Unit Chief, Victimization Statistics, Bureau of Justice Statistics, 810 Seventh Street NW., Washington, DC 20531 (email: Michael.Planty@usdoj.gov; telephone: 202-514-9746). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: New collection under activities related to the National Crime Victimization Survey Redesign Research (NCVS-RR) program: NCVS Subnational Companion Study—American Crime Survey Field Test.

2. The Title of the Form/Collection: American Crime Survey (ACS).

3. The agency form number: The form numbers are ASC1 and ASC2, Bureau of Justice Statistics, Office of Justice Programs, U.S. Department of Justice.

4. Affected public who will be asked or required to respond, as well as a brief abstract: Adults ages 18 or older in 40 largest Core Based Statistical Areas (CBSAs) in the United States, as measured by the number of households. Since 2008, BJS has initiated numerous research projects to assess and improve upon the core NCVS methodology. The purpose of the Companion Survey Field Test will be to test a low-cost alternative self-administered survey for collecting information about violence and property crime to generate subnational, local level estimates of victimization. The goal of this test is to generate a survey that could parallel National Crime Victimization Survey (NCVS) and Uniform Crime Report (UCR) estimates over time, rather than replicate either of them, and could be used to assess whether local initiatives are correlated with changes in crime rates. A secondary goal is to assess change over time, as the Field Test will be administered over two years, with a cross-sectional address-based sample survey in 2015 and a second address-based sample survey in 2016. The rationale for collecting data in two years is that we are able to assess the ability of the instruments to detect change over time. An additional feature of the surveys being tested is the inclusion of a set of questions on perceptions of neighborhood safety, fear of crime, and police effectiveness, which would allow the survey to be used to assess changes in these perceptions as well. This information is not currently available from the NCVS.

5. An estimate of the total number of respondents and the amount of time estimated for an average respondent to respond: Over the two year period approximately 200,400 households are expected to complete the survey. The sample is divided into two groups by instrument version: ASC1 person-level survey and ASC2 incident-level survey. Over the two waves, for both versions, approximately 25% of households interviewed in year 1 will be re-interviewed in year 2.

• The first group of 100,200 households will receive the ASC1, a person-level survey to measure prevalence or the number of adult household members victimized by one or more types of violent crime and the number of households victimized by types of property crime. The expected burden placed on these respondents is 12 minutes per respondent for a total of 20,040 burden hours for both years.

• The second group of 100,200 households will receive the ASC2, an incident-level survey to measure the number of victimization incidents experienced by all adult household members. The expected burden placed on these respondents is 10.5 minutes for a total of 17,535 burden hours.

6. An estimate of the total public burden (in hours) associated with the collection: The total respondent burden is approximately 37,575 hours.

If additional information is required contact: Jerri Murray, Department Clearance Officer, United States Department of Justice, Justice Management Division, Policy and Planning Staff, Two Constitution Square, 145 N Street NE., 3E.405B, Washington, DC 20530.

Dated: February 11, 2015.
Jerri Murray,
Department Clearance Officer for PRA, U.S. Department of Justice.

[FR Doc. 2015-03114 Filed 2-13-15; 8:45 am]

BILLING CODE 4410-18-P